DEPARTMENT OF TRANSPORTATION

Federal Aviation Administration

14 CFR Part 39

[Docket No. FAA-2005-23473; Directorate Identifier 2005-CE-54-AD; Amendment 39-14451; AD 2005-26-53]

RIN 2120-AA64

Airworthiness Directives; Pacific Aerospace Corporation Ltd. Model 750XL Airplanes

AGENCY: Federal Aviation Administration (FAA), DOT.

ACTION: Final rule; request for comments.

SUMMARY: The FAA is adopting a new airworthiness directive (AD) for all Pacific Aerospace Corporation (PAC) Ltd. Model 750XL airplanes. This AD contains the same information as emergency AD 2005-26-53 and publishes the action in the Federal Register. This AD requires you to insert text into the Limitations Section of the Airplane Flight Manual (AFM) that reduces the maximum takeoff weight from 7,500 pounds to 7,125 pounds. This AD results from mandatory continuing airworthiness information (MCAI) issued by the airworthiness authority for New Zealand. We are issuing this AD to reduce the maximum takeoff weight that will allow wing ultimate load requirements to be met. If wing ultimate load requirements are not met, wing failure could result and subsequent loss of control of the airplane.

DATES: This AD becomes effective on January 16, 2006, to all affected persons who did not receive emergency AD 2005-26-53, issued December 22, 2005. Emergency AD 2005-26-53 contained the requirements of this amendment and became effective immediately upon receipt.

We must receive any comments on this AD by February 14, 2006.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Pacific Aerospace Corporation Ltd., Hamilton Airport, Private Bag HN 3027, Hamilton, New Zealand.

To view the comments to this AD, go to http://dms.dot.gov. The docket number is FAA-2005-23473; Directorate Identifier 2005-CE-54-AD.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Civil Aviation Authority (CAA), which is the airworthiness authority for New Zealand, recently notified FAA that an unsafe condition may exist on all PAC Ltd. Model 750XL airplanes. The CAA reports that the wings of these airplanes may not meet the ultimate load requirements for a maximum takeoff weight of 7,500 pounds. PAC found the condition on a production wing during an ultimate load test. Investigation is not complete, but indications show that some critical rivets were not fully age-hardened. PAC is developing a modification that will replace the critical rivets with “AN” bolts. In the interim, PAC is reducing the maximum takeoff weight from 7,500 pounds to 7,125 pounds. The maximum takeoff weight reduction will allow the airplane to meet the ultimate load requirements for an airplane certificated in the Normal Category.

The CAA issued emergency New Zealand AD Number DCA/750XL/7, dated December 22, 2005, to ensure the continued airworthiness of these airplanes in New Zealand. These PAC Model 750XL airplanes are manufactured in New Zealand and are type-certificated for operation in the United States under the provisions of section 21.29 of the Federal Aviation Regulations (14 CFR 21.29) and the applicable bilateral airworthiness agreement.

Under this bilateral airworthiness agreement, the CAA of New Zealand has kept us informed of the situation described above.

On December 22, 2005, FAA issued emergency AD 2005-26-53 to require incorporating information into the Limitations Section of the Airplane Flight Manual (AFM) on the affected airplanes that are registered in the United States. The AFM limitation reduces the maximum takeoff weight from 7,500 pounds to 7,125 pounds.

Why is it important to publish this AD? The FAA found that immediate corrective action was required, that notice and opportunity for prior public comment were impracticable and contrary to the public interest, and that good cause existed to make the AD effective immediately by individual letters issued on December 23, 2005, to all known U.S. operators of PAC Ltd. Model 750XL airplanes. These conditions still exist, and the AD is published in the Federal Register as an amendment to section 39.13 of the Federal Aviation Regulations (14 CFR 39.13) to make it effective to all persons.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-2005-23473; Directorate Identifier 2005-CE-54-AD” at the beginning of your comments. We will post all comments we receive, without change, to http://dms.dot.gov, including any personal information you provide. We will also post a report summarizing each substantive verbal contact with FAA personnel concerning this AD.

Using the search function of our docket Web site, anyone can find and read the comments received into any of our dockets, including the name of the individual who sent the comment (or signed the comment on behalf of an association, business, labor union, etc.). This is docket number FAA-2005-23473; Directorate Identifier 2005-CE-54-AD. You may review the DOT's complete Privacy Act Statement in the Federal Register published on April 11, 2000 (65 FR 19477-78) or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-23473; Directorate Identifier 2005-CE-54-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-26-53 Pacific Aerospace Corporation Ltd.: Amendment 39-14451; Docket No. FAA-2005-23473; Directorate Identifier 2005-CE-54-AD.

When Does This AD Become Effective?

(a) This AD becomes effective on January 16, 2006, to all affected persons who did not receive emergency AD 2005-26-53, issued December 22, 2005. Emergency AD 2005-26-53 contained the requirements of this amendment and became effective immediately upon receipt.

Are Any Other ADs Affected by This Action?

(b) None.

What Airplanes Are Affected by This AD?

(c) This AD affects Model 750XL airplanes, all serial numbers, that are certificated in any category.

What Is the Unsafe Condition Presented in This AD?

(d) This AD is the result of mandatory continuing airworthiness information (MCAI) issued by the airworthiness authority for New Zealand. We are issuing this AD to reduce the maximum takeoff weight that will allow wing ultimate load requirements to be met. If wing ultimate load requirements are not met, wing failure could result and subsequent loss of control of the airplane.

What Must I Do To Address This Problem?

(e) To address this problem, you must do the following:

Actions | Compliance | Procedures
Insert the following information into the Limitations Section of the Airplane Flight Manual (AFM). You may do this by inserting a copy of this AD into the Limitations Section of the AFM. “The maximum takeoff weight is reduced from 7,500 pounds to 7,125 pounds.” | Prior to further flight after January 16, 2006 (the effective date of this AD), except for those who received emergency AD 2005-26-53, issued December 22, 2005, unless already done. Emergency AD 2005-26-53 contained the requirements of this amendment and became effective immediately upon receipt | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, FAA, Small Airplane Directorate, 901 Locust, Room 301, Kansas City, Missouri 64106; telephone: (816) 329-4146; facsimile: (816) 329-4090.

Is There Other Information That Relates to This Subject?

(g) Civil Aviation Authority airworthiness directive DCA/750XL/7, dated December 22, 2005, also addresses the subject of this AD.

Issued in Kansas City, Missouri, on January 5, 2006.
John R. Colomy,
Acting Manager, Small Airplane Directorate, Aircraft Certification Service.

[FR Doc. 06-260 Filed 1-13-06; 8:45 am]

BILLING CODE 4910-13-P